DEPARTMENT OF STATE

[Public Notice 4532]

Shipping Coordinating Committee; Notice of Meeting

The Shipping Coordinating Committee (SHC), through the Subcommittee on Standards of Training, Certification and Watchkeeping, will conduct an open meeting at 9:30 a.m. on January 8, 2004. The meeting will be held in Room 6103 of the United States Coast Guard Headquarters Building, 2100 Second Street SW., Washington, DC 20593-0001. The purpose of the meeting is to prepare for the 35th session of the International Maritime Organization (IMO) Sub-Committee on Standards of Training and Watchkeeping (STW), to be held on January 26-30, 2004, at the IMO Headquarters in London, England.

The primary matters to be considered include:

1. Measures to enhance maritime security, training and certification for ship, company and port facility security officers;

2. Watchkeeping at anchor;

3. Large passenger ship safety;

4. Training of crew in launching and recovery operations of fast rescue boats and the means of rescue in adverse weather conditions;

5. Measures to prevent accidents with lifeboats;

6. Education and training requirements for fatigue prevention, mitigation, and management;

7. Requirements for knowledge, skills and training for officers on WIG craft; and

8. Development of competencies for ratings.

Members of the public may attend the meeting up to the seating capacity of the room. Interested persons may seek information by writing: LCDR Luke Harden, U.S. Coast Guard (G-MSO-1), Room 1210, 2100 Second Street SW., Washington, DC 20593-0001 or by calling; (202) 267-0229.

Dated: December 18, 2003.
Steven Poulin,
Executive Secretary, Shipping Coordinating Committee, Department of State.

[FR Doc. 03-32049 Filed 12-29-03; 8:45 am]

BILLING CODE 4710-09-P